DEPARTMENT OF COMMERCE

International Trade Administration

[A-588-867]

Metal Calendar Slides from Japan: Notice of Final Determination of Sales at Less Than Fair Value and Final Negative Determination of Critical Circumstances

AGENCY: Import Administration, International Trade Administration, Department of Commerce.

SUMMARY: We determine that metal calendar slides (MCS) from Japan are being, or are likely to be, sold in the United States at less than fair value (LTFV), as provided in section 735 of the Tariff Act of 1930, as amended (the Act). The estimated margins of sales at LTFV are shown in the “Final Determination” section of this notice.” Moreover, we determine that critical circumstances do not exist with regard to certain exports of subject merchandise from Japan. See the “Critical Circumstances” section below.

EFFECTIVE DATE: June 23, 2006.

FOR FURTHER INFORMATION CONTACT: Dara Iserson or Scott Lindsay, AD/CVD Operations, Office 6, Import Administration, International Trade Administration, U.S. Department of Commerce, 14th Street and Constitution Avenue, NW., Washington DC 20230; telephone: (202) 482-4052 and (202) 482-0780, respectively.

SUPPLEMENTARY INFORMATION:

Background

On January 25, 2006, the Department of Commerce (the Department) issued its preliminary determination of sales at LTFV of MCS from Japan. See Preliminary Determination of Sales at Less Than Fair Value: Metal Calendar Slides from Japan, 71 FR 5244 (February 1, 2006) (Preliminary Determination). In the Preliminary Determination, the Department stated that it would issue its preliminary finding with respect to Stuebing Automatic Machine Company's (Petitioner) critical circumstances allegation within 30 days. On February 21, 2006, the Department issued its negative preliminary determination regarding critical circumstances in this investigation. See Preliminary Negative Determination of Critical Circumstances: Metal Calendar Slides from Japan, 71 FR 9779 (February 27, 2006). In response to our January 13, 2006 supplemental questionnaire, Nishiyama Kinzoku Co., Ltd. (Respondent) submitted, on January 27, 2006, revised versions of its cost of production and constructed value databases that included production information regarding its MCS sales during the period of investigation (POI).

On February 1, 2006, Respondent filed, pursuant to section 351.224(c)(2) of the Department's regulations, a timely allegation that the Department made ministerial errors in the Preliminary Determination. Petitioner neither alleged any ministerial errors nor filed response comments. On February 24, 2006, the Department issued a memorandum stating that, because the errors were not significant pursuant to sections 351.224(c) and (g) of the Department's regulations, it would not correct the ministerial errors until the final determination. See Memorandum from the Team, to Barbara E. Tillman, Director for Office of AD/CVD Enforcement 6, “Allegations of Ministerial Errors in the Preliminary Determination,” (Ministerial Error Memorandum).

On February 13, 2006, Respondent requested that the Department postpone the final determination and extend provisional measures in this investigation. We postponed the final determination to June 16, 2006, under section 735(a)(2)(A) of the Act and section 351.210(b)(2)(ii) of Department's regulations. See Notice of Postponement of Final Determination and Extension of Provisional Measures in the Antidumping Duty Investigation of Metal Calendar Slides from Japan, 71 FR 13091 (March 14, 2006).

The Department conducted sales and cost verifications from February 13, 2006 through February 17, 2006, and from February 20, 2006 through February 24, 2006, respectively. See Verification of the Sales Response of Nishiyama Kinzoku Co., Ltd. in the Antidumping Duty Investigation of Metal Calendar Slides from Japan, (March 24, 2006) (Sales Verification Report); and Verification of the Cost of Production and Constructed Value Date Submitted by Nishiyama Kinzoku Co., Ltd. in the Antidumping Duty Investigation of Metal Calendar Slides from Japan, (April 14, 2006) (Cost Verification Report).

On April 6, 2006, the Department met with Petitioner on model matching issues. See Memorandum from Dara Iserson to the File Antidumping Duty Investigation of Calendar Metal Slides from Japan, dated April 6, 2006. On April 18, 2006, Petitioner submitted comments regarding modification of the model matching criteria. On April 26, 2006, we received rebuttal comments from Respondent regarding this issue. On May 1, 2006, Petitioner and Respondent filed their case briefs. On May 8, 2006, the Department received a rebuttal brief from Respondent. Petitioner did not submit a rebuttal brief. On May 25, 2006, Respondent submitted a database containing the reallocated home market bank charges, as they had been reported in its February 10, 2006, response.

Period of Investigation

The POI is April 1, 2004, through March 31, 2005.

Scope of Investigation

For the purpose of this investigation, the products covered are metal calendar slides (MCS). The products covered in this investigation are “V” and/or “U” shaped MCS manufactured from cold-rolled steel sheets, whether or not left in black form, tin plated or finished as tin free steel (TFS), typically with a thickness from 0.19 mm to 0.23 mm, typically in lengths from 152 mm to 915 mm, typically in widths from 12 mm to 29 mm when the slide is lying flat and before the angle is pressed into the slide (although they are not typically shipped in this “flat” form), that are typically either primed to protect the outside of the slide against oxidization or coated with a colored enamel or lacquer for decorative purposes, whether or not stacked, and excluding paper and plastic slides. MCS are typically provided with either a plastic attached hanger or eyelet to hang and bind calendars, posters, maps or charts, or the hanger can be stamped from the metal body of the slide itself. These MCS are believed to be classified under Harmonized Tariff Schedule of the United States (HTSUS) subheading 7326.90.1000 (Other articles of iron and steel: Forged or stamped; but not further worked: Other: Of tinplate). This HTSUS number is provided for convenience and U.S. Customs and Border Protection (CBP) purposes. The written description of the scope of this investigation is dispositive.

Verification

As provided in section 782(i) of the Act, we verified the information submitted by Respondent for use in this final determination. We used standard verification procedures including examination of relevant accounting and production records, and original source documents provided by Respondent. See Sales Verification Report and Cost Verification Report.

Critical Circumstances

On February 21, 2006, we issued our preliminary finding that critical circumstances did not exist for Respondent. See Notice of Preliminary Negative Determination of Critical Circumstances: Metal Calendar Slides From Japan (February 27, 2006). We received comments on our critical circumstances determination from Petitioner and Respondent. See Memorandum from Stephen J. Claeys, Deputy Assistant Secretary for Import Administration, to David M. Spooner, Assistant Secretary for Import Administration, “Metal Calendar Slides from Japan: Final Determination of Sales at Less-than-Fair Value” (Issues and Decisions Memorandum), dated concurrently with this notice.

Section 735(a)(3) of the Act provides that the Department will determine that critical circumstances exist if: (A)(i) There is a history of dumping and material injury by reason of dumped imports in the United States or elsewhere of the subject merchandise; or (ii) the person by whom, or for whose account, the merchandise was imported knew or should have known that the exporter was selling the subject merchandise at less than its fair value and that there would to be material injury by reason of such sales; and (B) there have been massive imports of the subject merchandise over a relatively short period.

We determine that critical circumstances do not exist for imports of subject merchandise because, there is no history of dumping of this product in the United States or elsewhere (See memorandum to the file dated June 16, 2006); and the calculated final margin for Nishiyama's EP sales and for “all other” exporters is less than the 25 percent knowledge threshold. Therefore, we determine that critical circumstances do not exist for imports of subject merchandise because, as required section 735(a)(3)(A) of the Act, there is no evidence that importers knew, or should have known, that the exporter was selling subject merchandise at LTFV.

Analysis of Comments Received

All issues raised in the comments submitted by interested parties are listed in the Appendix to this notice and are addressed in the Issues and Decisions Memorandum, which is hereby adopted by this notice. Parties can find a complete discussion of the issues raised in this investigation in this public memorandum, which is on file in the Central Records Unit, B-099 of the main Commerce Building. In addition, a complete version of the Issues and Decisions Memorandum can be accessed directly on the Internet at: http://ia.ita.doc.gov/frn/. The paper copy and the electronic version of the Issues and Decisions Memorandum are identical in content.

Changes Since the Preliminary Determination

Based on our findings at verification and on our analysis of the comments received, we have made certain adjustments to the margin calculations used in the Preliminary Determination. These adjustments are discussed in detail in several memoranda. See Memorandum From Scott Lindsay, Senior Analyst, AD/CVD Operations, Office 6 and Dara Iserson, Analyst, AD/CVD Operations, Office 6 through: Thomas Gilgunn, Program Manager, AD/CVD Operations, Office 6 to the File, “Final Analysis Memorandum for Metal Calendar Slides from Japan: Nishiyama Kinzoku Co., Ltd.” (June 16, 2006) (Final Calculation Memorandum); Memorandum from Ernest Z. Gziryan, Senior Accountant, through Taija A. Slaughter, Program Manager, to Neal M. Halper, Director, Office of Accounting, “Cost of Production and Constructed Value Calculation Adjustments for the Final Determination - Nishiyama Kinzoku Co., Ltd.” (June 16, 2006) (Cost Calculation Memorandum); and Issues and Decisions Memorandum.

Final Determination

We determine that the following weighted-average dumping margins exist for the period April 1, 2004, through March 31, 2005:

Manufacturer/Exporter | Weighted-Average Margin (Percent)
Nishiyama Kinzoku Co., Ltd. | 3.02%
All Others | 3.02%

Continuation of Suspension of Liquidation

Pursuant to section 735(c)(1)(B) of the Act, we will instruct U.S. Customs and Border Protection (CBP) to continue to suspend liquidation of all entries of MCS from Japan that are entered, or withdrawn from warehouse, for consumption on or after February 1, 2006, the date of publication of the Preliminary Determination in the Federal Register. We will instruct CBP to continue to require, for each entry, a cash deposit or the posting of a bond equal to the weighted-average dumping margins indicated above. These instructions suspending liquidation will remain in effect until further notice.

International Trade Commission Notification

In accordance with section 735(d) of the Act, we have notified the U.S. International Trade Commission (ITC) of our determination. As our final determination is affirmative, the ITC will determine, within 45 days, whether these imports materially injure, or threaten material injury to, an industry in the United States, pursuant to section 735(b)(2)(B) of the Act. If the ITC determines that material injury, or threat of injury does not exist, the proceeding will be terminated and all securities posted will be refunded or canceled. If the ITC determines that such injury does exist, the Department will issue an antidumping duty order directing CBP officials to assess antidumping duties on all imports of the subject merchandise entered, or withdrawn from warehouse, for consumption on or after the effective date of the suspension of liquidation.

Notification Regarding Administrative Protective Order

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This determination is issued and published in accordance with sections 735(d) and 777(i)(1) of the Act.

Dated: June 16, 2006.
David M. Spooner,
Assistant Secretary for Import Administration.

Appendix

List of Issues Covered in the Issues and Decisions Memorandum

Comment 1: Changing Model Matching Criteria and Opportunity to Comment

Comment 2: Analysis of Model Matching Criteria

Comment 3: Average Sales Periods

Comment 4: Date of Sale

Comment 5: Post-Sale Price Adjustments

Comment 6: Critical Circumstances

Comment 7: Inventory Carry Costs

Comment 8: Adjustment to Cost of Sales Denominator for Overvaluation of Material Cost

Comment 9: Adjustment to Total Costs for Unreconciled Difference

Comment 10: Adjustment to Cost of Sales Denominator for Purchased Goods

Comment 11: Miscellaneous Losses

Comment 12: Adjustment to Steel Costs

[FR Doc. E6-9965 Filed 6-22-06; 8:45 am]

BILLING CODE 3510-DS-S